DEPARTMENT OF COMMERCE

U.S. Census Bureau

Proposed Information Collection; Comment Request; Annual Retail Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 27, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Aneta Erdie, U.S. Census Bureau, Service Sector Statistics Division, Room 8K041, 4600 Silver Hill Road, Washington, DC 20233-6500, (301) 763-4841, (or via the Internet at aneta.erdie@census.gov).

SUPPLEMENTARY INFORMATION:

I. Abstract

The Annual Retail Trade Survey (ARTS) covers employer firms with establishments located in the United States and classified in the Retail Trade and/or Accommodation and Food Services sectors as defined by the North American Industry Classification System (NAICS).

Firms are selected for this survey using a stratified random sample where strata are defined by industry and annual sales size. The sample, consisting of about 20,600 retail businesses, is drawn from the Business Register (BR). The BR is the Census Bureau's master business list and contains basic economic information for over 7.5 million employer businesses and over 21 million nonemployer businesses. The BR obtains information through direct data collections and administrative record information from other Federal agencies. The sample is updated quarterly to reflect employer business “births” and “deaths”; adding new employer businesses identified in the Business and Professional Classification Survey and deleting firms and EINs when it is determined they are no longer active.

The survey requests firms to provide annual sales, annual e-commerce sales, year-end inventories held inside and outside the United States, total operating expenses, purchases, accounts receivables, and, for selected industries, sales by merchandise line, percent of sales by class of customer, and percent of e-commerce sales to customers located outside the United States. These data are used to satisfy a variety of public and business needs such as economic market analysis, company performance, and forecasting future demands. Results will be available, at the United States summary level, for selected retail industries approximately fifteen months after the end of the reference year.

A new sample will be introduced with the 2011 ARTS. It is expected that approximately 60-70% of the companies that are asked to report will be doing so for the first time (and, consequently, 60-70% of the old sample will no longer be asked to report). In order to link estimates from the new and prior samples, we will be asking companies to provide data for 2011 and 2010. The 2012 ARTS and subsequent years will request one year of data until a new sample is once again introduced.

An additional change will occur with the 2012 ARTS. We will request data on detailed operating expenses that were previously requested under a separate supplemental mailing (conducted every 5 years). The last supplemental mailing was conducted for the 2007 ARTS under OMB Control No. 0607-0942. While the retail portion of that program will be collapsed into the ARTS, we will continue to ask only the additional detailed expense questions every 5 years.

The estimated time per response and estimated total annual burden hours, as reported below, were calculated using the first three years of the new ARTS sample and, therefore, accurately reflect the burden associated with requesting two years of data for the first year of the new ARTS sample and requesting detailed expense data in the second year of the new ARTS sample. We have found that the estimated time per response for a “typical” year (i.e., only one year of data is requested with no detailed expense data) of data is 34 minutes. We will lower our burden estimates with the 2013 ARTS.

II. Method of Collection

We collect this information by mail, fax, telephone, and Internet.

III. Data

OMB Control Number: 0607-0013.

Form Number: SA-44, SA-44A, SA-44C, SA-44E, SA-44N, SA-44S, SA-45, SA-45C, SA-7211A, SA-7211E, SA-721A, SA-721E, SA-722A, and SA-722E.

Type of Review: Regular submission.

Affected Public: Retail and/or accommodation and food services firms located in the United States.

Estimated Number of Respondents: 20,600.

Estimated Time per Response: 91 minutes (3-year average).

Estimated Total Annual Burden Hours: 31,243 hours (3-year average).

Estimated Total Annual Cost: $906,359.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 21, 2011.
Gwellnar Banks,
Management Analyst, Office of the Chief Information Officer.

[FR Doc. 2011-10067 Filed 4-26-11; 8:45 am]

BILLING CODE 3510-07-P